DEPARTMENT OF TRANSPORTATION

Federal Aviation Adminstration

14 CFR Part 39

[Docket No. FAA-2005-21433; Directorate Identifier 2005-NM-079-AD; Amendment 39-14123; AD 2005-12-07]

RIN 2120-AA64

Airworthiness Directives; Airbus Model A319, A320, and A321 Series Airplanes

Correction

In rule document 05-11707 beginning on page 34636 in the issue of Wednesday, June 15, 2005, make the following correction:

§ 39.13 [Corrected]

On page 34637, in the third column, in § 39.13, after amendatory instruction 2, in the fourth and fifth lines, delete “(b) None.”.

[FR Doc. C5-11707 Filed 7-7-05; 8:45 am]

BILLING CODE 1505-01-D